DEPARTMENT OF EDUCATION

RIN 1820-ZA14

Rehabilitation Continuing Education Programs

AGENCY: Office of Special Education and Rehabilitative Services, Department of Education.

ACTION: Notice of proposed priorities.

SUMMARY: The Assistant Secretary for the Office of Special Education and Rehabilitative Services proposes priorities under the Rehabilitation Continuing Education Programs. The Assistant Secretary may use these priorities for competitions in fiscal year (FY) 2003 and in later years. We take this action to focus on training in an identified area of national need. The purpose of these priorities is to select entities to provide leadership for the Institute on Rehabilitation Issues (IRI) topic study groups and to plan and conduct the National IRI Forum. We intend these priorities to meet the needs of our customers by improving the responsiveness of the IRI study process to changes in the field of vocational rehabilitation (VR).

DATES: We must receive your comments on or before July 21, 2003.

ADDRESSES: Address all comments about these proposed priorities to Christine Marschall, U.S. Department of Education, 400 Maryland Avenue, SW., Switzer Building, room 3325, Washington, DC 20202-2649. If you prefer to send your comments through the Internet, use the following address: Christine.Marschall@ed.gov.

You must include the term “Rehabilitation Continuing Education Programs” in the subject line of your electronic message.

FOR FURTHER INFORMATION CONTACT: Christine Marschall. Telephone: (202) 205-8926 or via Internet: Christine.Marschall@ed.gov.

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 3036, 330 C Street SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

The Rehabilitation Continuing Education Programs—

(a) Train newly employed State agency staff at the administrative, supervisory, professional, paraprofessional, or clerical levels in order to develop needed skills for effective agency performance;

(b) Provide training opportunities for experienced State agency personnel at all levels of State agency practice to upgrade their skills and to develop mastery of new program developments dealing with significant issues, priorities, and legislative thrusts of the State and Federal vocational rehabilitation program; and

(c) Develop and conduct training programs for staff of—

(1) Private rehabilitation agencies and facilities that cooperate with State vocational rehabilitation units in providing vocational rehabilitation and other rehabilitation services;

(2) Centers for independent living; and

(3) Client assistance programs.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either: (1) Awarding additional points, depending on how well or the extent to which the application meets the priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Priorities

Proposed Priority 1—Leadership of IRI Primary Study Group Background

The Rehabilitation Services Administration (RSA) has sponsored national study groups currently known as the Institute on Rehabilitation Issues (IRI) for 55 years. The IRI process consists of groups of between 10 and 15 subject experts from the field of rehabilitation, referred to as IRI scholars, known as Primary Study Groups (PSG), which meet a minimum of three times over the course of the project year to study a selected topic. Two topics are selected annually by the RSA Commissioner, in consultation with the IRI planning committee, which consists of members from RSA, State VR agencies, persons served by State VR agencies, rehabilitation educational institutions, and one additional member who is a family member of a person with a disability or is a representative of a community-based rehabilitation program or an organization of persons with disabilities. PSG chairpersons and members are selected by the RSA Commissioner, with input from the Council of State Administrators of Vocational Rehabilitation, the National Organization of Rehabilitation Partners, State VR agencies, consumer organizations, and other stakeholders. Through a minimum of two face-to-face meetings and other meetings, as necessary, the PSG members collect research data on one of the two selected topics, identify relevant professional practices, and develop, design, and write a study document that provides in-depth analysis of their designated topic as it relates to the practice of public rehabilitation. Public rehabilitation is defined for the purpose of this priority as the State VR agency and other agencies funded under the Rehabilitation Act of 1973, as amended. Project staff ensures that the PSG process includes the input of all PSG members, helps the PSG to identify appropriate resources for the review process, and advises the PSG in the product design, development, and production. A final national meeting of the PSG members and constituents and stakeholders of the public rehabilitation system (the National IRI Forum) is conducted to review all IRI documents produced in the study year. Participants provide input and feedback to the study group regarding the documents prior to publication. Each project submits a final draft of its IRI document to RSA for review and, upon RSA approval, disseminates the document in electronic and hard copy formats to State VR agencies, the National Clearinghouse on Rehabilitation Training Materials, and other interested entities for use in personnel training and service planning. The intent of this priority is to select the entity or entities to lead two PSGs annually during the 5-year project period.

Priority: This priority funds projects to lead a PSG on a topic selected by the IRI Planning Committee. Projects must demonstrate the ability to provide leadership to members of the PSG that results in the production of a high quality document in the assigned topic area. Projects must ensure that documents are relevant to the public rehabilitation system and to the work of VR counselors and accurately interpret and integrate the current body of knowledge of the selected topic contained in published professional research and demonstrations.

Specifically, projects must demonstrate an in-depth knowledge of and understanding of relevant current and emerging issues in the public rehabilitation system, the public VR program, and the continuing education needs of VR personnel and related professionals. Projects must have the demonstrated ability to direct a rehabilitation research investigation in cooperation with a variety of experienced participants.

Projects must provide leadership to all phases of the IRI process, including assisting PSG members to define the areas of focus for the designated topic, to identify and address the continuing education needs of personnel of the public rehabilitation system, and to plan and write the project document. Projects must ensure that the group product meets the expectation of the IRI Planning Committee in terms of content areas and depth of review. At the conclusion of the National IRI Forum, projects must submit the final version of the IRI document to RSA for approval. Projects must distribute the approved document to State VR agencies and to others in an accessible format on request for use in staff development, training, and service planning.

Projects must include a plan to meet the communication, coordination, logistical, and budgetary requirements necessary to conduct at least three in-person meetings of the PSG, one of which must take place at the National IRI Forum in Washington, DC, at the end of the project year.

Proposed Priority 2—Leadership of the National IRI Forum Background

The National IRI Forum is held annually in Washington, DC, in May of each project year to enable various constituents and stakeholders of the public rehabilitation system to provide additional input on the draft documents prepared by the IRI study groups. The intent of this priority is to select the entity that will plan and lead the National IRI Forum to ensure that products of the two IRI PSGs receive a thorough review from interested stakeholders prior to publication.

Priority: This priority funds projects to plan and to lead the annual National IRI Forum of PSG members and other stakeholders in each year of the project period. Projects must demonstrate in-depth knowledge of current, relevant issues in the public rehabilitation system and of methods to facilitate professional development and continuing education activities. Project staff, in cooperation with the IRI Planning Committee, must identify and solicit key stakeholders to provide input and feedback on selected IRI topics, and facilitate discussion and input sessions of diverse individuals with a wide variety of backgrounds so that each of the two IRI PSGs receives feedback on its draft document in a collaborative and positive manner.

Projects must provide a detailed plan for all aspects of the planning and coordination of the meeting, including, but not limited to, facilitation of document feedback sessions, site planning, coordination of accommodations and travel for PSG members funded by the project, coordination of accommodations requested by other participants, and the provision of on-site support services, including the provision of reasonable accommodations upon request. Projects must include a description of a process and methods that will result in high quality input on the IRI documents presented for review.

Executive Order 12866

This notice of proposed priorities has been reviewed in accordance with Executive Order 12866. Under the terms of the order, we have assessed the potential costs and benefits of this regulatory action.

The potential costs associated with the notice of proposed priorities are those resulting from statutory requirements and those we have determined as necessary for administering these programs effectively and efficiently.

In assessing the potential costs and benefits—both quantitative and qualitative—of this notice of proposed priorities, we have determined that the benefits of the proposed priorities justify the costs.

We have also determined that this regulatory action does not unduly interfere with State, local, and tribal governments in the exercise of their governmental functions.

Summary of potential costs and benefits: The potential costs associated with these proposed priorities are minimal, while the benefits are significant. Grantees may anticipate costs associated with completing the application process in terms of staff time, copying, and mailing or delivery. The use of e-Grants and e-Application technology reduces mailing and copying costs significantly. In starting and administrating this program, because of the eligibility requirements of the Rehabilitation Continuing Education Programs, the successful grantee would require no significant costs other than those provided for by the grant award funds, with the exception of those accounted for by the grantee's required share of the project budget. The grantee's cost share obligation is 10 percent.

The benefits of the IRI process have been well established over the years that similar projects have been completed. These proposed priorities serve to solicit projects from the full eligibility base allowed by program regulations in order to identify the best resources for the IRI process. The IRI process brings together diverse professionals from rehabilitation to publish and distribute best practices related to topics selected based on their immediate relevance to the field. IRIs contribute significantly to enhanced staff knowledge and skill and to improved service to persons with disabilities throughout the rehabilitation field. In addition, because of the nature of the IRI PSG process, PSG members establish professional relationships with others on a national basis and enhance their own understanding of the topic, professional writing, and trends of national importance in the rehabilitation field. One anecdotal benefit of IRI participation has been that PSG members often return to their employment with an increased commitment to rehabilitation. Benefits to the Federal Government include the production of a low-cost, high quality tool for the training and development of rehabilitation staff, positive regard from our professional partners, and improved services to individuals with disabilities.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Applicable Program Regulations: 34 CFR parts 385 and 389.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.264A Rehabilitation Training—Rehabilitation Continuing Education Programs)

Program Authority: 29 U.S.C. 772.

Dated: January 16, 2003.
Robert H. Pasternack,
Assistant Secretary for Special Education and Rehabilitative Services.

[FR Doc. 03-15416 Filed 6-18-03; 8:45 am]

BILLING CODE 4000-01-P